DEPARTMENT OF HEALTH AND HUMAN SERVICES

National Institutes of Health

Sixth Annual Philip S. Chen, Jr. Distinguished Lecture on Innovation and Technology Transfer

AGENCY: National Institutes of Health, Public Health Service, HHS.

ACTION: Notice.

SUMMARY: The Office of the Director, NIH, invites you to the sixth annual Philip S. Chen, Jr., Ph.D. Distinguished Lecture on Innovation and Technology Transfer.

DATES: Friday, December 9, 2011, at 9:30 a.m.

ADDRESSES: NIH campus, 9000 Rockville Pike, Bethesda, MD, NIH Clinical Center (Building 10), Masur Auditorium.

SUPPLEMENTARY INFORMATION: Dr. Ira Pastan will present “Treatment of Cancer with Recombinant Immunotoxins: From Technology Transfer to the Patient.” Dr. Pastan is an NIH Distinguished Investigator and Chief, Laboratory of Molecular Biology, National Cancer Institute Center for Cancer Research.

This annual series honors Dr. Philip S. Chen, Jr. for his almost 50 years of service to the National Institutes of Health. Dr. Chen established NIH's Office of Technology Transfer in 1986 to implement the Federal Technology Transfer Act. The inventions in the Office of Technology Transfer's intellectual property portfolio are crucial in advancing the NIH mission—making important discoveries that improve health and save lives.

The event will be available as an NIH videocast for desktop viewing at http://videocast.nih.gov/. The link will be live at the time the presentation is scheduled to begin.

FOR FURTHER INFORMATION CONTACT: Individuals with disabilities who need Sign Language Interpreters and/or reasonable accommodation to participate in this event should contact Joe Kleinman at (301) 496-0472 and/or the Federal Relay (1-(800) 877-8339). Requests should be made at least 5 days in advance of the event.

Dated: November 7, 2011.
Steven M. Ferguson,
Deputy Director, Licensing & Entrepreneurship, Office of Technology Transfer, National Institutes of Health.

[FR Doc. 2011-29613 Filed 11-15-11; 8:45 am]

BILLING CODE 4140-01-P